DEPARTMENT OF COMMERCE

International Trade Administration

[C-570-980]

Crystalline Silicon Photovoltaic Cells, Whether or Not Assembled Into Modules, From the People's Republic of China: Continuation of Countervailing Duty Order

AGENCY: Enforcement and Compliance, International Trade Administration, Department of Commerce.

SUMMARY: As a result of the determinations by the Department of Commerce (Commerce) and the U.S. International Trade Commission (ITC) that revocation of the countervailing duty (CVD) order on crystalline silicon photovoltaic (CSPV) cells, whether or not assembled into modules, from the People's Republic of China (China) would likely lead to continuation or recurrence of countervailable subsidies and material injury to an industry in the United States, Commerce is publishing a notice of continuation of this CVD order.

DATES: Applicable March 20, 2019.

FOR FURTHER INFORMATION CONTACT: Caitlin Monks, AD/CVD Operations, Office VII, Enforcement and Compliance, International Trade Administration, U.S. Department of Commerce, 1401 Constitution Avenue NW, Washington, DC 20230; telephone: (202) 482-2670. SUPPLEMENTARY INFORMATION:

Background

On December 7, 2012, Commerce published in the Federal Register the notice of the CVD order on CSPV cells from China.¹ On November 1, 2017, Commerce published the notice of initiation of the sunset review of the Order pursuant to section 751(c) of the Tariff Act of 1930, as amended (the Act).² On February 26, 2018, the ITC instituted its review of the Order.³

¹ See Crystalline Silicon Photovoltaic Cells, Whether or Not Assembled into Modules, from the People's Republic of China: Countervailing Duty Order, 77 FR 73017 (December 7, 2012) (Order).

² See Initiation of Five-Year (Sunset) Reviews, 82 FR 50612 (November 1, 2017).

³ See Crystalline Silicon Photovoltaic Cells and Modules from China; Notice of Commission Determinations to Conduct Full Five-Year Reviews, 83 FR 8296, 8297 (February 26, 2018).

As a result of this sunset review, Commerce determined that revocation of the Order would likely lead to continuation or recurrence of countervailable subsidies and notified the ITC of the net countervailable subsidy rates likely to prevail should the Order be revoked.⁴

⁴ See Crystalline Silicon Photovoltaic Cells, Whether or Not Assembled into Modules, from the People's Republic of China: Final Results of the Expedited First Sunset Review of the Countervailing Duty Order, 83 FR 10431 (March 9, 2018).

On March 7, 2019, the ITC published its determination, pursuant to sections 751(c) of the Act, that revocation of the Order would be likely to lead to continuation or recurrence of material injury to an industry in the United States within a reasonably foreseeable time.⁵

⁵ See Crystalline Silicon Photovoltaic Cells and Modules from China: Investigation Nos. 701-TA-481 and 731-TA-1190 (Review), 84 FR 8342, 8343 (March 7, 2019).

Scope of the Order

The merchandise covered by the Order is crystalline silicon photovoltaic cells, and modules, laminates, and panels, consisting of crystalline silicon photovoltaic cells, whether or not partially or fully assembled into other products, including, but not limited to, modules, laminates, panels and building integrated materials. The Order covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell. Merchandise under consideration may be described at the time of importation as parts for final finished products that are assembled after importation, including, but not limited to, modules, laminates, panels, building-integrated modules, building-integrated panels, or other finished goods kits. Such parts that otherwise meet the definition of merchandise under consideration are included in the scope of the Order.

Excluded from the scope of this Order are thin film photovoltaic products produced from amorphous silicon (a-Si), cadmium telluride (CdTe), or copper indium gallium selenide (CIGS). Also excluded from the scope of this Order are crystalline silicon photovoltaic cells, not exceeding 10,000mm2 in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of this Order are panels with surface area from 3,450 mm2 to 33,782 mm2 with one black wire and one red wire (each of type 22 AWG or 24 AWG not more than 206 mm in length when measured from panel extrusion), and not exceeding 2.9 volts, 1.1 amps, and 3.19 watts. For the purposes of this exclusion, no panel shall contain an internal battery or external computer peripheral ports.

Modules, laminates, and panels produced in a third-country from cells produced in China are covered by this Order; however, modules, laminates, and panels produced in China from cells produced in a third-country are not covered by this Order.

Merchandise covered by this Order is currently classified in the Harmonized Tariff Schedule of the United States (HTSUS) under subheadings 8501.61.0000, 8507.20.80, 8541.40.6020, 8541.40.6030, 8501.31.8000, 8541.40.6015, 8541.40.6035, 8541.40.6025, and 8541.40.6045. These HTSUS subheadings are provided for convenience and customs purposes; the written description of the scope of this Order is dispositive.

Continuation of the Order

As a result of the determinations by Commerce and the ITC that revocation of the Order would likely lead to continuation or recurrence of countervailable subsidies and material injury to an industry in the United States, pursuant to section 751(d)(2) of the Act, Commerce hereby orders the continuation of the Order.

U.S. Customs and Border Protection will continue to collect CVD cash deposits at the rates in effect at the time of entry for all imports of subject merchandise. The effective date of continuation of this order will be the date of publication in the Federal Register of this notice of continuation. Pursuant to section 751(c)(2) of the Act, Commerce intends to initiate the next five-year review of the Order not later than 30 days prior to the fifth anniversary of the effective date of continuation.

This five-year sunset review and this notice are in accordance with section 751(c) of the Act and published pursuant to section 777(i)(1) of the Act, and 19 CFR 351.218(f)(4).

Dated: March 15, 2019.
Christian Marsh,
Deputy Assistant Secretary for Enforcement and Compliance.

[FR Doc. 2019-05274 Filed 3-19-19; 8:45 am]

BILLING CODE 3510-DS-P